DEPARTMENT OF HEALTH AND HUMAN SERVICES

National Institutes of Health

Proposed Collection; 60-Day Comment Request; Palliative Care: Conversations Matter® Phase Two Evaluation

SUMMARY: In compliance with the requirement of section 3506(c)(2)(A) of the Paperwork Reduction Act of 1995, for opportunity for public comment on proposed data collection projects, the National Institute of Nursing Research (NINR), the National Institutes of Health (NIH) will publish periodic summaries of proposed projects to be submitted to the Office of Management and Budget (OMB) for review and approval.

Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) The quality, utility, and clarity of the information to be collected; and (4) Minimize the burden of the collection of information on those who are to respond, including the use of appropriate automated, electronic, mechanical, or other technological collection techniques or other forms of information technology.

To Submit Comments and for Further Information: To obtain a copy of the data collection plans and instruments, submit comments in writing, or request more information on the proposed project, contact*: Ms. Diana Finegold, Office of Communications and Public Liaison, NINR, NIH, Building 31, Suite 5B03, 31 Center Drive, Bethesda, MD 20892, or call non-toll-free number (301) 496-0209, or Email your request, including your address to: Diana.Finegold@nih.gov. Formal requests for additional plans and instruments must be requested in writing.

Comment Due Date: Comments regarding this information collection are best assured of having their full effect if received within 60 days of the date of this publication.

Proposed Collection: Palliative Care: Conversations Matter® Phase Two Evaluation, 0925-NEW, National Institute of Nursing Research (NINR), National Institutes of Health (NIH).

Need and Use of Information Collection: The NINR Palliative Care: Conversations Matter® initiative, which launched in FY 2014, is now in its second phase. The first phase was focused on providing materials and tools to assist health care providers in having sometimes difficult conversations with children and families about palliative care. The second phase of the campaign, launched in FY 2015, focuses on children, parents, and families. The Palliative Care: Conversations Matter® Phase Two evaluation will assess the information and materials being disseminated to children, parents, and families. Survey findings will help (1) determine if the campaign is effective, relevant, and useful to the families and caregivers of children living with serious illnesses; (2) to better understand the information needs of families and caregivers to inform future campaign efforts; and (3) examine how effective the campaign materials are in providing families and caregivers with information on palliative care.

OMB approval is requested for 3 years. There are no costs to respondents other than their time. The total estimated annualized burden hours are 400 hours.

Estimated Annualized Burden Hours
Form name | Type of respondents | Number of respondents | Number of responses per respondent | Average burden per response (in hours) | Total annual burden hours
Screener | Parents and Caregivers | 10,000 | 1 | 2/60 | 333
Main Survey | Parents and Caregivers of Children with Serious Illnesses—Completes | 150 | 1 | 15/60 | 38
Main Survey | Parents and Caregivers of Children with Serious Illnesses—Non-Completes | 350 | 1 | 5/60 | 29
Total |  | 10,500 | 10,500 |  | 400

Dated: June 29, 2016.
Diana Finegold,
Project Clearance Liaison, NINR, NIH.

[FR Doc. 2016-16438 Filed 7-11-16; 8:45 am]

BILLING CODE 4140-01-P